DEPARTMENT OF THE INTERIOR

Bureau of Land Management

[BLM_NV_FRN; MO4500179291]

Notice of Availability of the Final Environmental Impact Statement for the Libra Solar Project, Lyon and Mineral Counties, Nevada

AGENCY: Bureau of Land Management, Interior.

ACTION: Notice of availability.

SUMMARY: In accordance with the National Environmental Policy Act of 1969, as amended (NEPA), and the Federal Land Policy and Management Act of 1976, as amended (FLPMA), the Bureau of Land Management (BLM) announces the availability of the Final Environmental Impact Statement (EIS) for the Libra Solar Project, Lyon and Mineral Counties, Nevada.

DATES: The BLM will not issue a decision on the proposal for a minimum of 30 days after the date the Environmental Protection Agency (EPA) publishes its Notice of Availability (NOA) of the Final EIS in the Federal Register. The EPA usually publishes its NOAs on Fridays.

ADDRESSES: The Final EIS and documents pertinent to this proposal are available for review on the BLM National NEPA Register website at https://eplanning.blm.gov/eplanning-ui/project/2022592/570.

FOR FURTHER INFORMATION CONTACT: Lisa Ross, Public Affairs Specialist, telephone: (775) 885-6107; address: 5665 Morgan Mill Road, Carson City, NV 89701; email blm_nv_ccdo_libra_solar@blm.gov. Individuals in the United States who are deaf, deafblind, hard of hearing, or have a speech disability may dial 711 (TTY, TDD, or TeleBraille) to access telecommunications relay services for contacting Ms. Ross. Individuals outside the United States should use the relay services offered within their country to make international calls to the point-of-contact in the United States.

SUPPLEMENTARY INFORMATION:

Purpose and Need for the Proposed Action

The BLM's purpose and need is to respond to the right-of-way (ROW) application submitted by the Applicant under FLPMA Title V (43 U.S.C. 1761). The need for this action is to fulfill the BLM's responsibility under FLPMA and its ROW regulations to manage the public lands for multiple uses, including the generation of electric energy. FLPMA, as amended, established a multiple-use mandate for the BLM's management of Federal lands, including “systems for generation, transmission, and distribution of electric energy, except that the proponent shall also comply with all applicable requirements of the Federal Energy Regulatory Commission under the Federal Power Act, including part I thereof (41 Stat. 1063, 16 U.S.C. 791a-825r).” (43 U.S.C. 1761(a)(4)). The BLM must consider compliance with FLPMA, BLM ROW regulations, the BLM NEPA Handbook, Department of the Interior NEPA regulations, and other applicable Federal and State laws and policies.

Proposed Action and Alternatives

Under the Proposed Action, the Applicant would construct, operate, maintain, and decommission a 700-megawatt alternating current (MW ac) solar photovoltaic (PV) power generating facility with battery storage and associated components on approximately 5,141 acres of public lands administered by the BLM Stillwater and Sierra Front Field Offices in the Carson City District Office. The proposal also includes the development of a 24.1-mile-long generation tie-line, of which 22.9 miles would be located on BLM managed lands, to connect the solar site to the Fort Churchill Substation in Lyon County, as well as improvement of a largely-existing access road on BLM lands providing access to the solar site. The total ROW requested for the project is 5,778 acres. The Project would result in the permanent disturbance of approximately 3,420 acres within the 5,778-acre ROW. Under the Proposed Action, the Applicant would reclaim surface disturbances and prevent unnecessary or undue degradation of the lands. The final reclamation would occur at the end of the 30-year ROW grant term, if it is not renewed.

The three action alternatives analyzed in the Final EIS are as follows: Action Alternative 1: Major Drainage Avoidance, Fenced Corridors, and Vegetation and Topography Maintenance; Action Alternative 2: Alternative Supplemental Access During Construction; and Action Alternative 3: Alternative Gen-tie Connecting to the Proposed Greenlink West Transmission Line. Action Alternative 1 includes the use of specific construction methods to reduce impacts to vegetation, drainage, and topography within the solar array areas. Action Alternative 2 focuses on reduction of impacts associated with East Walker Road (the project's mostly unpaved access road) by providing supplemental access during construction. Action Alternative 3 entails connecting the generation tie-line from the project to the proposed Greenlink West Transmission Project through a new switching station under the proposed Greenlink West line, which would reduce impacts to air, vegetation, soils, wildlife, visual resources, and other resource areas from the 24.1-mile-long generation tie-line under the Proposed Action.

Under the No Action Alternative, the solar facility, generation tie-line, battery storage, substation, and associated facilities would not be developed because the BLM would not issue the ROW grant.

Based on the analyses contained in the Final EIS for the proposed Libra Solar Project, and after carefully considering input from the public and cooperating agencies, the BLM has selected a modification of the Proposed Action that combines Action Alternative 1 and Action Alternative 2; it requires the use of specific construction methods and provides supplemental access to reduce total traffic on East Walker Road during construction. An overlay of Alternative 1 and Alternative 2 is the preferred alternative since it reduces many of the resource impacts, including to vegetation communities, wildlife, and hydrology. It also allows for faster and more successful restoration at decommissioning, allowing for future uses of the land under multiple use.

Public Participation

In addition to making the Draft EIS available for public comment and review, the BLM hosted one virtual and one in-person public meeting in Yerington, Nevada, during the public comment period. The agency received 23 written comments, some of which were verbally presented and recorded during the meeting. The responses were incorporated in the Final EIS, as appropriate. The BLM hosted additional meetings in response to comments received from Native American Tribes to discuss construction practices and methods. The BLM will continue to consult with Indian Tribal Nations on a government-to-government basis in accordance with Executive Order 13175, BLM MS 1780, and other Departmental policies. Public comments received on the Draft EIS were considered and incorporated as appropriate into the Final EIS. Public comments and internal BLM review resulted in the addition of clarifying text but did not significantly change the impact analyses.

Schedule for the Decision-Making Process

The BLM anticipates releasing a Record of Decision in the third quarter of 2024. The BLM will decide whether or not to approve and issue the ROW to build the project on 5,778 acres of public lands as proposed or with modifications.

(Authority: 40 CFR 1506.6, 40 CFR 1506.10)

Kimberly D. Dow,
District Manager, Carson City District.

[FR Doc. 2024-16258 Filed 7-25-24; 8:45 am]

BILLING CODE 4331-21-P